DEPARTMENT OF HEALTH AND HUMAN SERVICES

Health Resources and Services Administration

National Advisory Council on Nurse Education and Practice; Notice of Meeting

In accordance with section 10(a)(2) of the Federal Advisory Committee Act (Pub. L. 92-463), notice is hereby given of the following meetings:

Name: National Advisory Council on Nurse Education and Practice (NACNEP).

Dates and Times: April 11, 2011, 8:30 a.m.-4 p.m.

April 12, 2011, 8:30 a.m.-4 p.m.

Place: Webinar format.

Status: The meeting will be open to the public.

Purpose: The purpose of this meeting is to address diversity in nurse education and practice. The objectives of the meeting are to: (1) Articulate the definition, goals and implications of diversification of the nursing workforce; (2) summarize the current data trends and existing information on diversity in the nursing workforce, including nursing students; (3) examine existing policies, practices and legal constraints that influence or limit the recruitment of diverse students into the profession of nursing; (4) identify the key elements of successful programs in nursing education that have increased the recruitment and graduation of diverse individuals; and (5) identify the key elements of success in innovative models that have improved the retention, professional development and promotion of diverse individuals within the nursing profession. Experts from nursing professions of both public and private organizations will make presentations on a range of issues related to diversity in the nursing workforce and health professions. This meeting will form the basis for NACNEP's legislatively mandated Eleventh Annual Report to the Secretary of Health and Human Services and the Congress.

Agenda: The meeting will include a panel presentation and discussion of model diversity programs that have demonstrated successful implementation and results. There will be a discussion to help identify best practices to implement diversity in the nursing workforce. The agenda will be available on the NACNEP Web site (http://bhpr.hrsa.gov/nursing/nacnep.htm) 1 day prior to the meeting. Agenda items are subject to change as priorities dictate.

SUPPLEMENTARY INFORMATION: For members of the public interested in participating in the Webinar, please contact CDR Serina Hunter-Thomas, Executive Secretary by e-mail at SHunter-Thomas@hrsa.gov. Requests to attend can be made up to two days prior to the meeting. Participants will receive an e-mail response containing the link to the Webinar. Requests to provide written comments should be sent to CDR Serina Hunter-Thomas by e-mail. Members of the public will have the opportunity to provide written comments before and after the meeting.

FOR FURTHER INFORMATION CONTACT: For further information regarding NACNEP, to obtain a roster of members, minutes of the meeting, or other relevant information, contact CDR Serina Hunter-Thomas, Executive Secretary, National Advisory Council on Nurse Education and Practice, Parklawn Building, Room 9-61, 5600 Fishers Lane, Rockville, Maryland 20857, SHunter-Thomas@Hrsa.gov, telephone (301) 443-4499. Information can also be found at the following Web site: http://bhpr.hrsa.gov/nursing/nacnep.htm.

Dated: March 8, 2011.
Reva Harris,
Acting Director, Division of Policy and Information Coordination.

[FR Doc. 2011-6018 Filed 3-14-11; 8:45 am]

BILLING CODE 4165-15-P